DEPARTMENT OF HEALTH AND HUMAN SERVICES

National Institutes of Health

Proposed Collection; Comment Request; National Kidney Disease Education Program Evaluation Survey

SUMMARY: In compliance with the requirement of section 3506(c)(2)(A) of the Paperwork Reduction Act of 1995, for opportunity for public comment on proposed data collection projects, the National Institute of Diabetes and Digestive and Kidney Diseases (NIDDK), the National Institutes of Health (NIH), will publish periodic summaries of proposed projects to be submitted to the Office of Management (OMB) for review and approval.

Proposed Collection:

Title: National Kidney Disease Education Program Evaluation Survey.

Type of Information Collection Request: New.

Need and Use of Information Collection: NIDDK will conduct a survey to monitor and evaluate the effects of a pilot kidney disease education program. This will be accomplished through baseline and follow-up surveys of the primary target audience members, i.e. African American adults and primary care providers, in four pilot site locations. The research is designed to assess the overall impact of the program, but also to provide information that will be useful in developing and refining this and future programs.

Frequency of Response: A baseline and follow-up survey will each require a onetime response.

Affected Public: Individuals or households, clinics or doctor's offices.

Type of Respondents: African-American adults, and Primary Care Providers (e.g., physicians, physician assistants, and nurse practitioners, etc.).

The annual reporting burden is as follows:

Estimated Number of Respondents: 2,000.

Estimated Number of Responses per Respondent: 1 (Respondents will answer a single survey: African American adults will complete a 20 minute computer assisted telephone interview (CATI); Primary care providers will complete a 10 minute faxed survey.

Average Burden Hours Per Response: .298

Estimated Total Annual Burden Hours Requested: 596.

The annualized total cost of respondents' time is estimated at $10,684. All respondents will be contacted via telephone. To reduce respondent burden and overall costs of administering the study, it is expected that random digit dialing will be used to contact African American adults and telephone lists will be used to contact primary care providers. Because different program materials will be developed for each audience the questionnaires will be tailored such that respondents will be asked only target-audience pertinent questions. There are no Capital Costs to report. There are no Operating or Maintenance Costs to report.

Type of respondents | Number of respondents | Frequency of response | Average time per response | Annual hour burden
African Americans | 1,600 | 1.0 | .33 | 528
Primary Care Providers | 400 | 1.0 | .17 | 68
Total | 2,000 |  |  | 596

Request for Comments: Written comments and/or suggestions from the public and affected agencies are invited on one or more of the following points: (1) Whether the proposed collection of information is necessary for the proper performance of the function of the agency, including whether the information will have practical utility; (2) The accuracy of the agency's estimate of the burden of the proposed collection of information, including the validity of the methodology and assumptions used; (3) Ways to enhance the quality, utility, and clarity of the information to be collected; and (4) Ways to minimize the burden of the collection of information on those who are to respond, including the use of appropriate automated, electronic, mechanical, or other technological collection techniques or other forms of information technology.

FOR FURTHER INFORMATION CONTACT: To request more information on the proposed project or to obtain a copy of the data collection plans and instruments, contact Mimi Lising, Project Officer, NIDDK National Kidney Disease Education Program, NIH, Building 31, Room 9A04, Bethesda, MD 20892-2560, or call non-toll-free number (301) 496-3583 or e-mail your request, including your address, to: lisingm@extra.niddk.nih.gov.

Comments Due Date: Comments regarding this information are best assured of having their full effect if received within 60 days following the date of this publication.

Dated: July 17, 2002.
Barbara Merchant,
Executive Officer, NIDDK.

[FR Doc. 02-19726 Filed 8-2-02; 8:45 am]

BILLING CODE 4140-01-M